Title 3—

The President

Proclamation 7851 of December 2, 2004

National Drunk and Drugged Driving Prevention Month, 2004

By the President of the United States of America

A Proclamation

As a Nation, we have made great strides in reducing the deadly cost of impaired driving, but driving under the influence of alcohol or drugs still shatters too many lives and robs too many people of their potential. During National Drunk and Drugged Driving Prevention Month, we continue our work to end impaired driving and urge all Americans to be responsible and safe drivers this holiday season and throughout the year.

My Administration is committed to saving lives and preventing injuries resulting from alcohol- and drug-impaired driving. The NHTSA sponsors public education programs such as the “You Drink & Drive. You Lose.” campaign to raise awareness about the dangers of drunk and drugged driving, and works with State and local law enforcement agencies as they conduct sobriety checkpoints and saturation patrols. In addition, the National Youth Anti-Drug Media Campaign has invested millions of dollars to educate Americans about the threat posed by illegal drugs and drugged driving. We are also increasing resources for State enforcement and education programs. My Administration awarded $80.6 million in grants this year to States that have lowered the legal threshold for impaired driving to .08 blood alcohol concentration (BAC). As of this year, all 50 States, the District of Columbia, and the Commonwealth of Puerto Rico have adopted this legal definition of impaired driving.

Individuals across our country can help prevent drunk and drugged driving by encouraging responsible actions, identifying sober designated drivers, and educating young people about safe, substance-free driving behavior. Working together, all Americans can make our roads safer and save lives by preventing drunk and drugged driving.

NOW, THEREFORE, I, GEORGE W. BUSH, President of the United States of America, by virtue of the authority vested in me by the Constitution and laws of the United States, do hereby proclaim December 2004 as National Drunk and Drugged Driving Prevention Month.

IN WITNESS WHEREOF, I have hereunto set my hand this second day of December, in the year of our Lord two thousand four, and of the Independence of the United States of America the two hundred and twenty-ninth.

B

[FR Doc. 04-26834

Filed 12-3-04; 8:45 am]

Billing code 3195-01-P